NATIONAL SCIENCE FOUNDATION

Advisory Committee for Biological Sciences (BIO); Notice of Meeting

In accordance with the Federal Advisory Committee Act (Pub. L., 92-463, as amended), the National Science Foundation announces the following meeting:

Name: Advisory Committee for Bilogical Sciences (BIO) (1110).

Date and Time: April 6, 2000, 8:45 a.m.-5 p.m.; April 7, 2000, 8:45 a.m-3:00 p.m.

Place: National Science Foundation, 4201 Wilson Blvd., Arlington, VA 22230, Room 375.

Type of meeting: Open.

Contact Person: Dr. Mary E. Clutter, Assistant Director, Biological Sciences, Room 605, National Science Foundation, 4201 Wilson Blvd., Arlington, VA 22230 Tel No.: (703) 306-1400.

Minutes: May be obtained from the contact person listed above.

Purpose of Meeting: The Advisory Committee for BIO provides advice, recommendations, and oversight concerning major program emphases, directions, and goals for the research-related activities of the divisions that make up BIO.

Agenda: Planning and Issues Discussion.

Dated: March 6, 2000.
Karen J. York,
Committee Management Officer.

[FR Doc. 00-5883 Filed 3-9-00; 8:45 am]

BILLING CODE 7555-01-M